DEPARTMENT OF COMMERCE

[I.D. 121001A]

Submission for OMB Review; Comment Request

The Department of Commerce has submitted to the Office of Management and Budget (OMB) for emergency clearance the following proposal for collection of information under the provisions of the Paperwork Reduction Act (44 U.S.C. Chapter 35).

Agency: National Oceanic and Atmospheric Administration (NOAA).

Title: NMFS Alaska Region Vessel Monitoring System (VMS) Program.

Form Number(s): None.

OMB Approval Number: None.

Type of Request: Emergency.

Burden Hours: 13,044.

Number of Respondents: 539.

Average Hours Per Response: 6 hours for installation of a VMS unit, 4 hours per year to maintain a VMS unit, 5 seconds for an automated position report, and 12 minutes to fax a check-in report.

Needs and Uses: As required in the reasonable and prudent measures in the Endangered Species Act, Section 7 biological opinion on the effects of the BSAI and GOA pollock, Atka mackerel, and Pacific cod fisheries on the endangered Steller sea lions, the National Marine Fisheries Service (NMFS) must implement changes to information collected from fishery participants. These new registrations will be in effect on January 1, 2002 and will end for Atka mackerel on January 15, 2002. In order to participate in the three fisheries, these registered participants must install vessel monitoring system (VMS) units on their vessels and operate the VMS while directed fishing for each of the species. Some of these applicants have already acquired VMS units for use in the Atka mackerel and pollock fisheries. This emergency collection of information extends the requirement for use of VMS units to all vessels that are directed fishing for Pacific cod, pollock, and Atka mackerel in the exclusive economic zone off Alaska.

Affected Public: Business and other for-profit organizations.

Frequency: Every 20 minutes for a position report, on occasion for a check-in report.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: December 6, 2001.
Madeleine Clayton,
Departmental Paperwork Clearance Officer, Office of the Chief Information Officer.

[FR Doc. 01-30826 Filed 12-12-01; 8:45 am]

BILLING CODE 3510-22-S